FEDERAL MARITIME COMMISSION

Notice of Agreements Filed

The Commission hereby gives notice of the filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201451-001.

Agreement Name: APL/MLL MECL-EX1 Slot Exchange Agreement.

Parties: American Presidents Lines, LLC; and Maersk Line, Limited.

Filing Party: Wayne Rohde, Cozen O'Connor.

Synopsis: The Amendment deletes Spain, Oman, and the United Arab Emirates from the scope of the Agreement.

Proposed Effective Date: 6/25/2025.

Location: https://www2.fmc.gov/FMC.Agreements.Web/Public/AgreementHistory/88603.

Dated: June 27, 2025.
Alanna Beck,
Federal Register Alternate Liaison Officer.

[FR Doc. 2025-12274 Filed 6-30-25; 8:45 am]

BILLING CODE 6730-02-P